DEPARTMENT OF ENERGY

Federal Energy Regulatory Commission

Combined Notice of Filings #1

Take notice that the Commission received the following electric corporate filings:

Docket Numbers: EC26-31-000.

Applicants: Landrace Holdings, LLC, PGR 2021 Lessee 18, LLC, PGR 2021 Lessee 13, LLC, PGR 2021 Lessee 9, LLC, PGR 2022 Lessee 1, LLC, PGR 2022 Lessee 4, LLC, PGR 2022 Lessee 5, LLC, PGR 2022 Lessee 9, LLC, PGR 2022 Lessee 2, LLC, PGR 2023 Lessee 1, LLC, Virginia Line Solar, LLC, Sonny Solar, LLC, Bulldog Solar, LLC, Cane Creek Solar, LLC, Moonshot Solar, LLC, Glover Creek Solar, LLC, Catalina Solar, LLC, Old Hayneville Solar, LLC, Fresh Air Energy XXIII, LLC, BII BID Solar II Aggregator LP.

Description: Joint Application for Authorization Under Section 203 of the Federal Power Act of Landrace Holdings, LLC, et al.

Filed Date: 11/19/25.

Accession Number: 20251119-5198.

Comment Date: 5 p.m. ET 12/10/25.

Take notice that the Commission received the following exempt wholesale generator filings:

Docket Numbers: EG26-62-000.

Applicants: Big Cypress Energy Storage, LLC.

Description: Big Cypress Energy Storage, LLC submits Notice of Self-Certification of Exempt Wholesale Generator Status.

Filed Date: 11/20/25.

Accession Number: 20251120-5039.

Comment Date: 5 p.m. ET 12/11/25.

Docket Numbers: EG26-63-000.

Applicants: Butler Ridge Wind, LLC.

Description: Butler Ridge Wind, LLC submits Notice of Self-Certification of Exempt Wholesale Generator Status.

Filed Date: 11/20/25.

Accession Number: 20251120-5040.

Comment Date: 5 p.m. ET 12/11/25.

Docket Numbers: EG26-64-000.

Applicants: Delta Bobcat Energy Storage, LLC.

Description: Delta Bobcat Energy Storage, LLC submits Notice of Self-Certification of Exempt Wholesale Generator Status.

Filed Date: 11/20/25.

Accession Number: 20251120-5041.

Comment Date: 5 p.m. ET 12/11/25.

Docket Numbers: EG26-65-000.

Applicants: Flat Fork Energy Storage, LLC.

Description: Flat Fork Energy Storage, LLC submits Notice of Self-Certification of Exempt Wholesale Generator Status.

Filed Date: 11/20/25.

Accession Number: 20251120-5042.

Comment Date: 5 p.m. ET 12/11/25.

Docket Numbers: EG26-66-000.

Applicants: Greer Energy Storage, LLC.

Description: Greer Energy Storage, LLC submits Notice of Self-Certification of Exempt Wholesale Generator Status.

Filed Date: 11/20/25.

Accession Number: 20251120-5046.

Comment Date: 5 p.m. ET 12/11/25.

Docket Numbers: EG26-67-000.

Applicants: Heartland Divide Wind Energy, LLC.

Description: Heartland Divide Wind Energy, LLC submits Notice of Self-Certification of Exempt Wholesale Generator Status.

Filed Date: 11/20/25.

Accession Number: 20251120-5049.

Comment Date: 5 p.m. ET 12/11/25.

Docket Numbers: EG26-68-000.

Applicants: Pheasant Run Wind Energy, LLC.

Description: Pheasant Run Wind Energy, LLC submits Notice of Self-Certification of Exempt Wholesale Generator Status.

Filed Date: 11/20/25.

Accession Number: 20251120-5051.

Comment Date: 5 p.m. ET 12/11/25.

Docket Numbers: EG26-69-000.

Applicants: Tuscola Wind Energy II, LLC.

Description: Tuscola Wind Energy II, LLC submits Notice of Self-Certification of Exempt Wholesale Generator Status.

Filed Date: 11/20/25.

Accession Number: 20251120-5052.

Comment Date: 5 p.m. ET 12/11/25.

Docket Numbers: EG26-70-000.

Applicants: Wildwood Energy Storage, LLC.

Description: Wildwood Energy Storage, LLC submits Notice of Self-Certification of Exempt Wholesale Generator Status.

Filed Date: 11/20/25.

Accession Number: 20251120-5057.

Comment Date: 5 p.m. ET 12/11/25.

Take notice that the Commission received the following electric rate filings:

Docket Numbers: ER10-1355-009; ER10-1355-010.

Applicants: Southern California Edison Company.

Description: Supplement to 01/29/2021 and 08/31/2021, Notice of Change in Status of Southern California Edison Company.

Filed Date: 11/19/25.

Accession Number: 20251119-5163.

Comment Date: 5 p.m. ET 12/10/25.

Docket Numbers: ER10-1915-012; ER23-1766-001; ER10-3278-004; ER10-1963-012; ER22-284-001; ER20-2060-002; ER18-213-004; ER10-2638-012.

Applicants: Waterbury Generation, LLC, Pittsfield Generating Company, L P, MPH Rockaway Peakers, LLC, MPH AL Pierce, LLC, Jamaica Bay Peaking Facility, LLC, Forked River Power LLC, Boott Hydropower, LLC, Bayswater Peaking Facility, LLC.

Description: Supplement to June 29, 2023, Triennial Market Power Analysis for Northeast Region of Bayswater Peaking Facility, LLC, et al.

Filed Date: 2/24/25.

Accession Number: 20250224-5182.

Comment Date: 5 p.m. ET 12/10/25.

Docket Numbers: ER10-1915-012; ER23-1766-001; ER10-3278-004; ER10-1963-012; ER22-284-001; ER20-2060-002; ER18-213-004; ER10-2638-012.

Applicants: Waterbury Generation, LLC, Pittsfield Generating Company, L P, MPH Rockaway Peakers, LLC, MPH AL Pierce, LLC, Jamaica Bay Peaking Facility, LLC, Forked River Power LLC, Boott Hydropower, LLC, Bayswater Peaking Facility, LLC.

Description: Supplement to 06/29/2023, Triennial Market Power Analysis for Northeast Region of Bayswater Peaking Facility, LLC, et al.

Filed Date: 5/22/25.

Accession Number: 20250522-5179.

Comment Date: 5 p.m. ET 12/10/25.

Docket Numbers: ER23-2639-005.

Applicants: NRG Business Marketing LLC.

Description: Compliance filing Compliance Filing of Tariff Records to Implement Settlement Rates to be effective 1/17/2024.

Filed Date: 11/19/25.

Accession Number: 20251119-5174.

Comment Date: 5 p.m. ET 12/10/25.

Docket Numbers: ER23-2639-006.

Applicants: NRG Business Marketing LLC.

Description: Compliance filing: Compliance Filing of Tariff Records to Implement Settlement Rates to be effective 5/1/2024.

Filed Date: 1/19/25.

Accession Number: 20251119-5187.

Comment Date: 5 p.m. ET 12/10/25.

Docket Numbers: ER26-551-000.

Applicants: Arizona Public Service Company.

Description: 205(d) Rate Filing: Service Agreement No. 440 to be effective 10/29/2025.

Filed Date: 11/19/25.

Accession Number: 20251119-5169.

Comment Date: 5 p.m. ET 12/10/25.

Docket Numbers: ER26-552-000.

Applicants: Arizona Public Service Company.

Description: 205(d) Rate Filing: Service Agreement No. 441 to be effective 10/29/2025.

Filed Date: 11/19/25.

Accession Number: 20251119-5178.

Comment Date: 5 p.m. ET 12/10/25.

Docket Numbers: ER26-553-000.

Applicants: San Diego Gas & Electric.

Description: 205(d) Rate Filing: 2026 TACBAA Filing to be effective 1/1/2026.

Filed Date: 11/19/25.

Accession Number: 20251119-5197.

Comment Date: 5 p.m. ET 12/10/25.

Docket Numbers: ER26-554-000.

Applicants: Arizona Public Service Company.

Description: 205(d) Rate Filing: Consolidated OATT Modifications to be effective 1/20/2026.

Filed Date: 11/20/25.

Accession Number: 20251120-5001.

Comment Date: 5 p.m. ET 12/11/25.

Docket Numbers: ER26-555-000.

Applicants: Mid-Atlantic Interstate Transmission, LLC.

Description: 205(d) Rate Filing: MAIT Submits Revised IA No. 6410 to be effective 1/20/2026.

Filed Date: 11/20/25.

Accession Number: 20251120-5038.

Comment Date: 5 p.m. ET 12/11/25.

Docket Numbers: ER26-556-000.

Applicants: Midcontinent Independent System Operator, Inc.

Description: 205(d) Rate Filing: 2025-11-20_SA 4396 Termination of DEI-Deriva Energy Solar E&P (J1691 J1786) to be effective 11/21/2025.

Filed Date: 11/20/25.

Accession Number: 20251120-5084.

Comment Date: 5 p.m. ET 12/11/25.

Docket Numbers: ER26-557-000.

Applicants: Portland General Electric Company.

Description: 205(d) Rate Filing: Amended PGE BPA MO&O Agreement to be effective 12/31/9998.

Filed Date: 11/20/25.

Accession Number: 20251120-5092.

Comment Date: 5 p.m. ET 12/11/25.

Docket Numbers: ER26-558-000.

Applicants: Cordova Energy Company LLC.

Description: Compliance filing: Compliance Filing to be effective 11/3/2025.

Filed Date: 11/20/25.

Accession Number: 20251120-5104.

Comment Date: 5 p.m. ET 12/11/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: November 20, 2025.
Carlos D. Clay,
Deputy Secretary.

[FR Doc. 2025-20975 Filed 11-24-25; 8:45 am]

BILLING CODE 6717-01-P